DEPARTMENT OF ENERGY

Federal Energy Regulatory Commission

[Docket Nos. RP01-236-011, RP00-553-014, and RP00-481-011]

Transcontinental Gas Pipe Line Corporation; Notice of Compliance Filing

April 2, 2003.

Take notice that on March 28, 2003, Transcontinental Gas Pipe Line Corporation (Transco), tendered for filing as part of its FERC Gas Tariff, Third Revised Volume No. 1, Substitute Second Revised Sheet No. 60A, Substitute Tenth Revised Sheet No. 60B and Substitute Ninth Revised Sheet No. 60C, which tariff sheets are proposed to be effective April 1, 2003.

Transco states that these tariff sheets are being submitted in compliance with the Commission's Order on Compliance issued March 19, 2003. The March 19, 2003 order accepted Transco's 1Line” related filings submitted on January 31, 2003 and February 28, 2003, subject to Transco revising certain tariff sheets to clarify that the GRI surcharge will only be assessed once for a transportation service.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 9, 2003.

Magalie R. Salas,
Secretary.

[FR Doc. 03-8474 Filed 4-7-03; 8:45 am]

BILLING CODE 6717-01-P